DEPARTMENT OF LABOR

Employment And Training Administration

[TA-W-57,080]

Leviton Manufacturing Company, Inc., Hillsgrove Division, Warwick, RI; Notice of Termination of Investigation

Pursuant to section 221 of the Trade Act of 1974, an investigation was initiated on April 29, 2005, in response to a petition filed by a company official on behalf of workers at Leviton Manufacturing Company, Inc., Hillsgrove Division, Warwick, Rhode Island (TA-W-57,080).

The petitioner has requested that the petition be withdrawn. Consequently, further investigation in this case would serve no purpose, and the investigation has been terminated.

Signed in Washington, DC this 10th day of June, 2005.
Linda G. Poole,
Certifying Officer, Division of Trade Adjustment Assistance.

[FR Doc. E5-3357 Filed 6-27-05; 8:45 am]

BILLING CODE 4510-30-P